FEDERAL COMMUNICATIONS COMMISSION

47 CFR Part 73

[DA 16-303; MB Docket No. 16-74; RM-11763]

Radio Broadcasting Services; Raymond, Washington

AGENCY: Federal Communications Commission.

ACTION: Proposed rule.

SUMMARY: This document proposes to amend the FM Table of Allotments by allotting Channel 300A at Raymond, Washington, as the community's second or third local service. After the filing of the petition, a change of community application was filed for Station KBSG(FM) from Westport, Washington, to Raymond, Washington. Therefore, if the application is granted prior to the issuance of the Report and Order in this proceeding, Channel 300A would be a third local service at Raymond, if allotted. A staff engineering analysis indicates that Channel 300A can be allotted to Raymond consistent with the minimum distance separation requirements of the Commission's Rules with a site restriction 4.7 kilometers (3.0 miles) southwest of the community. The reference coordinates are 46-38-49 NL and 123-45-11 WL.

DATES: Comments must be filed on or before May 16, 2016, and reply comments on or before May 31, 2016.

ADDRESSES: Federal Communications Commission, 445 12th Street SW., Washington, DC 20554. In addition to filing comments with the FCC, interested parties should serve the rule making petitioner and the counter proponent as follows: Peter Gutmann, Esq., Womble Carlyle Sandridge & Rice, LLP, 1200 19th Street NW., 5th Floor, Washington, DC 20036.

FOR FURTHER INFORMATION CONTACT: Rolanda F. Smith, Media Bureau, (202) 418-2700.

SUPPLEMENTARY INFORMATION: This is a synopsis of the Commission's Notice of Proposed Rule Making, MB Docket No. 16-74, adopted March 22, 2016, and released March 23, 2016. The full text of this Commission decision is available for inspection and copying during normal business hours in the FCC's Reference Information Center at Portals II, CY-A257, 445 12th Street SW., Washington, DC 20554. This document does not contain proposed information collection requirements subject to the Paperwork Reduction Act of 1995, Public Law 104-13.

In addition, therefore, it does not contain any proposed information collection burden “for small business concerns with fewer than 25 employees,” pursuant to the Small Business Paperwork Relief Act of 2002, Public Law 107-198, see 44 U.S.C. 3506(c)(4).

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

Federal Communications Commission.
James Bradshaw,
Deputy Chief, Audio Division, Media Bureau.

For the reasons discussed in the preamble, the Federal Communications Commission proposes to amend 47 CFR part 73 as follows:

PART 73—RADIO BROADCAST SERVICES

1. The authority citation for part 73 continues to read as follows:

Authority: 47 U.S.C. 154, 303, 334, 336, and 339.

§ 73.202 [Amended]

2. Section 73.202(b), the Table of FM Allotments under Washington, is amended by adding Raymond, Channel 300A.

[FR Doc. 2016-07888 Filed 4-5-16; 8:45 am]

BILLING CODE 6712-01-P